DEPARTMENT OF HOUSING AND URBAN DEVELOPMENT

[Docket No. FR-5188-N-01]

Notice of Proposed Information Collection: Comment Request; Self-Help Homeownership Opportunity Program (SHOP)

AGENCY: Office of Community Planning and Development, HUD.

ACTION: Notice.

SUMMARY: The proposed information collection requirement described below will be submitted to the Office of Management and Budget (OMB) for review, as required by the Paperwork Reduction Act. The Department is soliciting public comments on the subject proposal.

DATES: Comments Due Date: March 28, 2008.

ADDRESSES: Interested persons are invited to submit comments regarding this proposal. Comments should refer to the proposal by name and/or OMB Control Number and should be sent to: Lillian L. Deitzer, Departmental Reports Management Officer, QDAM, Department or Housing and Urban Development, 451 Seventh Street, SW., Room 4176, Washington, DC 20410; telephone: 202-708-2374, (this is not a toll-free number) or e-mail Ms. Deitzer at Lillian_L._Deitzer@HUD.gov for a copy of the proposed form and other available information.

FOR FURTHER INFORMATION CONTACT: Louise Thompson, OAHP, Office of Community Planning and Development, Department of Housing and Urban Development, 451 Seventh Street, SW., Washington, DC 20410; telephone 202-402-4594 (this is not a toll-free number).

SUPPLEMENTARY INFORMATION: The Department will submit the proposed information collection to OMB for review, as required by the Paperwork Reduction Act of 1995 (44 U.S.C. Chapter 35, as amended).

This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of proposal: Self-Help Homeownership Opportunity Program.

OMB Control Number: 2506-0157.

Description of the need for the information and proposed use: This is a proposed information collection for reporting requirements under SHOP. SHOP grants are used to fund land acquisition and infrastructure improvements to new self-help housing projects in which the low-income homebuyers contribute their own sweat equity toward the construction of the units. National and regional nonprofit SHOP grantees are required to report to HUD quarterly and annually regarding the success of their SHOP programs. The information submitted will enable HUD to assess performance of SHOP grant recipients and the success of the SHOP program.

Agency form numbers, if applicable: HUD-40215, HUD-40216, HUD-40217, HUD-40218, HUD 40219, and HUD-40220.

Members of Affected Public: National and Regional Non-Profit Self-Help Housing Organizations and Consortia.

Estimation of the total number of hours needed to prepare the information collection including number of respondents, frequency of response, and hours of response:

Paperwork requirement | Number of respondents | Frequency of response | Annual responses | Hours per response | Burden hours
HUD-40215 | *16 | 4 | 64 | 2.25 | 144.00
HUD-40216 | 16 | 1 | 16 | 9.00 | 144.00
HUD-40217 | 16 | 4 | 64 | 2.25 | 144.00
HUD-40218 | **912 | 4 | 3,648 | 2.25 | 8,208.00
HUD-40219 | ***5 | 1 | 5 | 0.50 | 2.50
HUD-40220 | 16 | 4 | 64 | 0.50 | 32.00
Total | 16+912+5=933 |  | 3,861 |  | 8,675.00
* Reporting grantees on open grants.
** Reporting affiliates/consortium members on open grants.
*** Reporting grantees on closed out grants.

Frequency of Submission: Quarterly and Annually.

Status of the proposed information collection: Extension of a currently approved collection.

Authority: Section 3506 of the Paperwork Reduction Act of 1995, 44 U.S.C. Chapter 35, as amended.

Dated: January 17, 2008.
Nelson R. Bregón,
General Deputy Assistant Secretary for Community Planning and Development.

[FR Doc. E8-1352 Filed 1-25-08; 8:45 am]

BILLING CODE 4210-67-P